DEPARTMENT OF DEFENSE

[OMB Control Number 0704-0231]

Information Collection Requirement; Defense Federal Acquisition Regulation Supplement; Mortuary Services Contracts

AGENCY: Department of Defense (DoD).

ACTION: Notice and request for comments regarding a proposed extension of an approved information collection requirement.

SUMMARY: In compliance with section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through June 30, 2004. DoD proposes that OMB extend its approval for use through June 30, 2007.

DATES: DoD will consider all comments received by April 23, 2004.

ADDRESSES: Respondents may submit comments via the Internet at http://emissary.acq.osd.mil/dar/dfars.nsf/pubcomm. As an alternative, respondents may e-mail comments to: dfars@osd.mil. Please cite OMB Control Number 0704-0231 in the subject line of e-mailed comments.

Respondents that cannot submit comments using either of the above methods may submit comments to: Defense Acquisition Regulations Council, Attn: Ms. Teresa Brooks, OUSD(AT&L)DPAP(DAR), IMD 3C132, 3062 Defense Pentagon, Washington, DC 20301-3062; facsimile (703) 602-0350. Please cite OMB Control Number 0704-0231.

At the end of the comment period, interested parties may view public comments on the Internet at http://emissary.acq.osd.mil/dar/dfars.nsf.

FOR FURTHER INFORMATION CONTACT: Ms. Teresa Brooks, (703) 602-0326. The information collection requirements addressed in this notice are available electronically on the World Wide Web at: http://www.acq.osd.mil/dp/dars/dfars.html. Paper copies are available from Ms. Teresa Brooks, OUSD(AT&L)DPAP(DAR), IMD 3C132, 3062 Defense Pentagon, Washington, DC 20301-3062.

SUPPLEMENTARY INFORMATION: Title, Associated Form, and OMB Number: Defense Federal Acquisition Regulation Supplement (DFARS) Subpart 237.70, Mortuary Services, and the associated clause at DFARS 252.237-7011; DD Form 2063, Record of Preparation and Disposition of Remains; OMB Control Number 0704-0231.

Needs and Uses: This requirement provides for the collection of necessary information from contractors regarding the results of the embalming process under contracts for mortuary services. The information is used to ensure proper preparation of the body for shipment and burial.

Affected Public: Businesses or other for-profit and not-for-profit institutions.

Annual Burden Hours: 400.

Number of Respondents: 114.

Responses Per Respondent: Approximately 7.

Annual Responses: 800.

Average Burden Per Response: .5 hours.

Frequency: On occasion.

Summary of Information Collection

The clause at DFARS 252.237-7011, Preparation History, requires that the contractor submit information describing the results of the embalming process on each body prepared for burial under a DoD contract. The contractor uses DD Form 2063 to provide this information to the Government.

Michele P. Peterson,
Executive Editor, Defense Acquisition Regulations Council.

[FR Doc. 04-3701 Filed 2-20-04; 8:45 am]

BILLING CODE 5001-08-P